Proclamation 10114 of October 30, 2020

National Veterans and Military Families Month, 2020

By the President of the United States of America

A Proclamation

Our Nation's service members—past and present—and their families represent the very best of America. Motivated by patriotism and love of country, our Soldiers, Sailors, Airmen, Marines, Coast Guardsmen, and Space Warfighters serve at home and abroad with professionalism, ingenuity, integrity, and devotion. Their families always stand beside them in their missions and as they transition to civilian life. During National Veterans and Military Families Month, we celebrate the loved ones of our country's men and women in uniform and recognize the sacrifices they have made in support of our Nation's heroes.

When I first took office, I pledged to our Armed Forces that I would always have their backs; and that means providing for military families as well. The demands and challenges of military life are shared by the loved ones of our heroes. Spouses, parents, siblings, and children often shoulder increased burdens and responsibilities when their servicemen and women are called to duty. Military families, and especially spouses have to endure the stress of frequent relocations and deal with job searches under state licensing regulations that can prevent them from working in their chosen occupations. To address this issue, my Administration eliminated unnecessary and cumbersome red tape that stifled career opportunities for military spouses, and the Department of Defense has implemented programs to enhance childcare opportunities for military families.

Too many veterans carry painful memories and bear physical and emotional scars from their service. We will never forget our veterans who are suffering from mental health issues or the military families that are left behind by veteran suicide. As President, I have prioritized changing the culture surrounding mental health and promoting a society that recognizes the infinite value and purpose of every life. Last year, I mobilized every available Federal resource to develop and implement the President's Roadmap to Empower Veterans and End a National Tragedy of Suicide. I also fought for and secured a record $8.6 billion in funding for mental health services in the most recent Department of Veterans Affairs appropriations bill. In October, I signed the Commander John Scott Hannon Veterans Mental Health Care Improvement Act, which will bolster these efforts even further. Like never before, we are using a whole-of-government approach to better understand and prevent suicide. No American warrior should ever be forgotten, and no military family should ever be left behind.

Since the beginning of my Administration, it has been a top priority and my solemn pledge to honor, equip, and protect our service members, veterans, and their families. My commitment has not wavered. America's military might is essential to our safety, prosperity, and national security. Caring for the brave Americans in our Armed Forces, and their families, and upholding our sacred obligation to those who have served with honor is the least we can do for those who have given so much for so many. This month, we pledge our gratitude to every man and woman currently serving this Nation in uniform, to all our veterans who helped preserve and defend our precious freedom, and to every family member who shares in the service and sacrifice of military life. My Administration will never stop fighting to enhance and improve the quality of life for these exceptional Americans.

NOW, THEREFORE, I, DONALD J. TRUMP, President of the United States of America, by virtue of the authority vested in me by the Constitution and the laws of the United States, do hereby proclaim November 2020 as National Veterans and Military Families Month. I encourage all communities, all sectors of society, and all Americans to acknowledge and honor the service, sacrifices, and contributions of veterans and military families for what they have done and for what they do every day to support our great Nation.

IN WITNESS WHEREOF, I have hereunto set my hand this thirtieth day of October, in the year of our Lord two thousand twenty, and of the Independence of the United States of America the two hundred and forty-fifth.

[FR Doc. 2020-24743

Filed 11-4-20; 8:45 am]

Billing code 3295-F1-P